DEPARTMENT OF TRANSPORTATION

Federal Aviation Administration

14 CFR Part 121

[Docket No.: FAA-2013-0485; Amdt. No. 121-376B]

RIN 2120-AJ94

Revisions to Operational Requirements for the Use of Enhanced Flight Vision Systems (EFVS) and to Pilot Compartment View Requirements for Vision Systems; Correcting Amendment

AGENCY: Federal Aviation Administration (FAA), DOT.

ACTION: Final rule; correcting amendment.

SUMMARY: The FAA is correcting a final rule published on December 13, 2016. In that rule, the FAA amended its regulations to allow operators to use an enhanced flight vision system (EFVS) in lieu of natural vision to continue descending from 100 feet above the touchdown zone elevation (TDZE) to the runway and to land on certain straight-in instrument approach procedures (IAPs) under instrument flight rules (IFR). As part of the final rule, the FAA revised appendix F to part 121 to provide greater clarity on the checking requirements for EFVS. In amending appendix F to part 121, the FAA used amendatory instructions that inadvertently misplaced new paragraph III(c)(5). This document amends appendix F to part 121 to correct that error.

DATES: Effective January 10, 2018.

FOR FURTHER INFORMATION CONTACT: Terry King, Flight Technologies and Procedures Division, Flight Standards Service, Federal Aviation Administration, 800 Independence Avenue SW, Washington, DC 20591; telephone (202) 267-8790; email Terry.King@faa.gov.

SUPPLEMENTARY INFORMATION:

Background

On December 13, 2016, the FAA published a final rule entitled, “Revisions to Operational Requirements for the Use of Enhanced Flight Vision Systems (EFVS) and to Pilot Compartment View Requirements for Vision Systems.” ¹ In that final rule, which became effective, in part, on March 13, 2017, the FAA created new 14 CFR 91.176 to contain the operating rules for EFVS operations to touchdown and rollout and for EFVS operations to 100 feet above the TDZE. The FAA also established training and recent flight experience requirements for persons conducting EFVS operations.²

¹ 81 FR 90126; corrected at 82 FR 2193, January 9, 2017; corrected at 82 FR 9677, February 8, 2017.

² The FAA notes that the training and recent flight experience requirements of § 61.66 will become effective on March 13, 2018.

Because part 121 operators authorized to conduct EFVS operations were already required to train, check, and qualify their pilots on EFVS in accordance with their Operation Specifications, the FAA excepted part 121 pilots from the new EFVS recent flight experience requirements.³ The FAA recognized, however, that the requirement to be qualified for EFVS operations by one of the certificate holder's check airmen was not as transparent as the requirements to train crewmembers on EFVS, which are found within the relevant operating rules of 14 CFR. Therefore, the FAA revised appendix F to part 121 to provide greater clarity on the checking requirements for EFVS operations.

³ The EFVS recent flight experience and EFVS refresher training requirements are contained in § 61.66(d) and (e). Section 61.66(h)(3) states that the requirements of paragraph (d) and (e) do not apply to a pilot who is employed by a part 119 certificate holder authorized to conduct operations under part 121, 125, or 135 when the pilot is conducting an EFVS operation for that certificate holder under part 91, 121, 125, or 135, as applicable, provided the pilot conducts the operation in accordance with the certificate holder's operations specifications for EFVS operations.

In amending appendix F to part 121, the FAA included amendatory instructions to amend the Table by adding new entry III.(c)(5). However, because of the undesignated paragraph following paragraph III.(c)(4) in appendix F, it was unclear whether new paragraph III(c)(5) should be published before or after the undesignated paragraph. When the final rule became effective, paragraph III.(c)(5) was inadvertently placed after the undesignated paragraph.

Correction

The FAA did not intend to add paragraph III.(c)(5) after the undesignated paragraph preceding paragraph III.(d). Instead, paragraph III(c)(5) should immediately follow paragraph III.(c)(4). The FAA is therefore revising appendix F to part 121 to relocate paragraph III.(c)(5) accordingly.

Because this amendment results in no substantive change, the FAA finds that the notice and public procedures under 5 U.S.C. 553(b) are unnecessary. For the same reason, the FAA finds good cause exists under 5 U.S.C. 553(d)(3) to make the amendments effective in less than 30 days.

List of Subjects in 14 CFR Part 121

Air carriers, Aircraft, Airmen, Aviation safety.

Correcting Amendment

For the reasons stated in the preamble, the Federal Aviation Administration amends chapter I of title 14, Code of Federal Regulations as follows:

PART 121—OPERATING REQUIREMENTS: DOMESTIC, FLAG, AND SUPPLEMENTAL OPERATIONS

1. The authority citation for part 121 continues to read as follows:

Authority: 49 U.S.C. 106(f), 106(g), 40103, 40113, 40119, 41706, 42301 preceding note added by Pub. L. 112-95, sec. 412, 126 Stat. 89, 44101, 44701-702, 44705, 44709-44711, 44713, 44716-44717, 44722, 44729, 44732; 46105; Pub. L. 111-216, 124 Stat. 2348 (49 U.S.C. 44701 note); Pub. L. 112-95, 126 Stat. 62 (49 U.S.C. 44732 note).

2. In appendix F, revise paragraph III. of the table to read as follows:

Appendix F to Part 121—Proficiency Check Requirements

* * * * *

Maneuvers/procedures | Required: Simulated instrument conditions | Required: Inflight | Permitted: Visual simulator | Permitted: Nonvisual simulator | Permitted: Training device | Permitted: Waiver provisions of § 121.441(d)
* * * * * * *
III. Instrument procedures:
(a) Area departure and area arrival. During each of these maneuvers the applicant must— | B |  |  | B |  | * B
(1) Adhere to actual or simulated ATC clearances (including assigned radials); and
(2) Properly use available navigation facilities.
Either area arrival or area departure, but not both, may be waived under § 121.441(d).
(b) Holding. This maneuver includes entering, maintaining, and leaving holding patterns. It may be performed in connection with either area departure or area arrival | B |  |  | B |  | B
(c) ILS and other instrument approaches. There must be the following:
(1) At least one normal ILS approach | B |  | B |  |  |
(2) At least one manually controlled ILS approach with a simulated failure of one powerplant. The simulated failure should occur before initiating the final approach course and must continue to touchdown or through the missed approach procedure | B |  |  |  |  |
(3) At least one nonprecision approach procedure that is representative of the non-precision approach procedures that the certificate holder is likely to use | B |  | B |  |  |
(4) Demonstration of at least one nonprecision approach procedure on a letdown aid other than the approach procedure performed under subparagraph (3) of this paragraph that the certificate holder is approved to use | B |  |  |  | B |
(5) For each type of EFVS operation the certificate holder is authorized to conduct, at least one instrument approach must be made using an EFVS. Each instrument approach must be performed according to any procedures and limitations approved for the approach facility used. The instrument approach begins when the airplane is over the initial approach fix for the approach procedure being used (or turned over to the final approach controller in the case of a GCA approach) and ends when the airplane touches down on the runway or when transition to a missed approach configuration is completed. Instrument conditions need not be simulated below 100′ above touchdown zone elevation | B | * B |  |  |  |
(d) Circling approaches. If the certificate holder is approved for circling minimums below 1000-3, at least one circling approach must be made under the following conditions |  |  | * B |  |  | * B
(1) The portion of the approach to the authorized minimum circling approach altitude must be made under simulated instrument conditions | B |  |  |  |  |
(2) The approach must be made to the authorized minimum circling approach attitude followed by a change in heading and the necessary maneuvering by visual reference to maintain a flight path that permits a normal landing on a runway at least 90[degrees] from the final approach course of the simulated instrument portion of the approach.
(3) The circling approach must be performed without excessive maneuvering, and without exceeding the normal operating limits of the airplane. The angle of bank should not exceed 30[degrees].
If local conditions beyond the control of the pilot prohibit the maneuver or prevent it from being performed as required, it may be waived as provided in § 121.441(d): Provided, however, that the maneuver may not be waived under this provision for two successive proficiency checks.
The circling approach maneuver is not required for a second-in-command if the certificate holder's manual prohibits a second-in-command from performing a circling approach in operations under this part.
(e) Missed Approach
(1) Each pilot must perform at least one missed approach from an ILS approach |  |  | * B |  |  |
(2) Each pilot in command must perform at least one additional missed approach |  |  | * P |  |  |
A complete approved missed approach procedure must be accomplished at least once. At the discretion of the person conducting a check a simulated powerplant failure may be required during any of the missed approaches. These maneuvers may be performed either independently or in conjunction with maneuvers required under Sections III or V of this appendix. At least one missed approach must be performed in flight.
* * * * * * *

Issued under the authority of 49 U.S.C. 106(f) and (g) in Washington, DC on January 3, 2018.
Lirio Liu,
Director, Office of Rulemaking.

[FR Doc. 2018-00225 Filed 1-9-18; 8:45 am]

BILLING CODE 4910-13-P